DEPARTMENT OF AGRICULTURE

Rural Housing Service

Notice of Availability of Funding and Requests for Proposals for Guaranteed Loans Under the Section 538 Guaranteed Rural Rental Housing Program; Correction

AGENCY: Rural Housing Service (RHS), USDA.

ACTION: Correction.

SUMMARY: The Rural Housing Service (RHS) corrects a notice published December 26, 2000 (65 FR 81650). This action is taken to correct the authorized purposes of section 538 guaranteed loans by eliminating the requirement that acquisition loans result in the creation of new units.

Accordingly, the notice published December 26, 2000, (65 FR 81650-81656), is corrected as follows:

On page 81650 in the third column, Item I, “Purpose and Program Summary,” the fourth sentence should read “Qualified lenders will be authorized to originate, underwrite, and close loans for multi-family housing projects requiring new construction or acquisition with rehabilitation of at least $15,000 per unit.”

Dated: April 17, 2001.
James C. Alsop,
Acting Administrator, Rural Housing Service.

[FR Doc. 01-10900 Filed 5-1-01; 8:45 am]

BILLING CODE 3410-XV-U